DEPARTMENT OF COMMERCE

National Oceanic and Atmospheric Administration

[Docket No. 030602141-3198-02; I.D. 080803D]

Omnibus Notice Announcing the Availability of Grant Funds for Fiscal Year 2004; Amendment

AGENCY: National Marine Fisheries Service (NMFS), National Oceanic and Atmospheric Administration (NOAA),Commerce.

ACTION: Notice.

SUMMARY: The National Marine Fisheries Service (NMFS)publishes this notice to reopen the application period fpr the NMFS Cooperative Research program (CRP). The original solicitation for applications for this program was published in an action entitled “Omnibus Notice Announcing the Availability of Grant Funds for Fiscal Year 2004”.

DATES: We must receive your application by close of business (5 p.m. EDT) on September 15, 2003. Applications received after that time will not be considered for funding. Applications received from August 15, 2003 through that date will be treated as having been received in a timely manner.

ADDRESSES: You can obtain an application package from, and send your completed applications to: Ellie Francisco Roche, Chief, State/Federal Liaison Office, Southeast Regional Office, NMFS, 9721 Executive Center Drive, N., St. Petersburg, FL 33702. You can also obtain the application package from the SERO homepage at: http://caldera.sero.nmfs.gov/grants/programs/. You must submit one signed original and two copies of the completed application (including supporting information). We will accept neither facsimile applications, nor electronically forwarded applications.

FOR FURTHER INFORMATION CONTACT: Ellie Francisco Roche, Chief, State/Federal Liaison Office, (727)570-5324.

SUPPLEMENTARY INFORMATION: The National Marine Fisheries Service (NMFS) Cooperative Research Program (CRP) published a notice soliciting applications for financial assistance in the Federal Register of June 30, 2003 (68 FR 38678), entitled “Omnibus Notice Announcing the Availability of Grant Funds for Fiscal Year 2004”. The purpose of this notice is to inform all applicants that the Application Deadline for the CRP has been reopened to close of business (5 p.m. EDT) on September 15, 2003. Applications received after that time will not be considered for funding. Applications received from August 15, 2003 through that date will be treated as having been received in a timely manner.

You should consult the June 30, 2003, notice for all of the other requirements for submitting an application.

Dated: August 12, 2003.
John Oliver,
Deputy Assistant Administrator for Operations, National Marine Fisheries Service.

[FR Doc. 03-21067 Filed 8-15-03; 8:45 am]

BILLING CODE 3510-22-S